DEPARTMENT OF TRANSPORTATION

Office of the Secretary of Transportation

[Docket No. DOT-OST-2015-0070]

Withdrawal of Approval and Grant of Antitrust Immunity to Alliance Agreements Under 49 U.S.C. 41308 and 41309

AGENCY: Office of the Secretary of Transportation (OST), Department of Transportation (DOT).

ACTION: Notice of Supplemental Order to Show Cause.

SUMMARY: The United States Department of Transportation has issued a Supplemental Order to Show Cause tentatively withdrawing the approval of and grant of antitrust immunity (ATI) for alliance agreements concerning the joint venture (JV) between Delta Air Lines, Inc. (Delta) and Aerovias de Mexico, S.A. de C.V. (Aeromexico).

DATES: The order was served on July 19, 2025. Objections or comments to the Department's tentative findings and conclusions shall be due no later than 14 calendar days from the service date of the Order, and answers to objections shall be due no later than seven (7) business days thereafter. Interested parties and potential commenters should check the above-captioned docket on www.regulations.gov for further updates from the Department on the procedural schedule. In the event that no objections are filed, all further procedural steps shall be deemed waived, and the Department may enter an order making final the tentative findings and conclusions.

ADDRESSES: You may send comments, identified by docket number DOT-OST-2015-0070, via the Federal eRulemaking Portal: http://www.regulations.gov. Follow the instructions for sending comments. In addition, comments must be properly served on all interested parties in accordance with the Department's procedural regulations (14 CFR part 302).

FOR FURTHER INFORMATION CONTACT: Jason Horner, Transportation Industry Analyst, Office of Aviation Analysis, 1200 New Jersey Avenue SE, Washington, DC 20590; telephone: (202) 366-5903; email: jason.horner@dot.gov.

SUPPLEMENTARY INFORMATION: On July 19, 2025, the Department issued a Supplemental Order to Show Cause (Order 2025-7-12) tentatively withdrawing the approval of and grant of antitrust immunity for alliance agreements concerning the JV between Delta and Aeromexico. The supplemental order provides the Department's reasoning, including detailing ongoing competitive concerns in the U.S.-Mexico air services market. If finalized, Delta and Aeromexico will cease to have a grant of ATI following a wind down period that ends at midnight on October 25, 2025. The joint venture agreement and the agreement(s) integral to the joint venture that require antitrust immunity would also be disapproved.

The Supplemental Order to Show Cause has been posted in docket DOT-OST-2015-0070 at www.regulations.gov. The order directs all interested persons to show cause why the Department should not issue an order making final the tentative findings and conclusions discussed therein. Objections or comments to the tentative findings and conclusions are due no later than 14 calendar days from July 19, 2025, the service date of the order, and answers to objections shall be due no later than seven (7) business days thereafter. In the event that no objections are filed, all further procedural steps shall be deemed waived, and the Department may enter an order making final the tentative findings and conclusions. Comments must be properly served on all interested parties in accordance with the Department's procedural regulations (14 CFR part 302).

(Authority: 14 CFR part 303.43)

Jared Smith,
Deputy Assistant Secretary, Office of Aviation and International Affairs, U.S. Department of Transportation.

[FR Doc. 2025-14207 Filed 7-25-25; 8:45 am]

BILLING CODE 4910-9X-P